NATIONAL SCIENCE FOUNDATION

Sunshine Act Meeting; National Science Board

The National Science Board, pursuant to NSF regulations (45 CFR part 614), the National Science Foundation Act, as amended (42 U.S.C. 1862n-5), and the Government in the Sunshine Act (5 U.S.C. 552b), hereby gives notice of the scheduling of a teleconference for the transaction of National Science Board business, as follows:

TIME AND DATE: Open meeting of the Executive Committee of the National Science Board, to be held Tuesday, October 10, 2017, from 2:00-3:00 p.m. EDT.

PLACE: This meeting will be held by teleconference at the National Science Foundation, 2415 Eisenhower Ave., Alexandria, VA 22314.

STATUS: Open.

MATTERS TO BE CONSIDERED: Committee Chair's Opening Remarks; approval of Executive Committee Minutes of July 17, 2017; approval of Addendum to the Plenary Closed Minutes of the NSB Meeting of May 2017; discuss issues and topics for an agenda of the NSB Meeting scheduled for November 8-9, 2017.

CONTACT PERSON FOR MORE INFORMATION: Point of contact for this meeting is: James Hamos, 2415 Eisenhower Ave., Alexandria, VA 22314. Telephone: (703) 292-8000. You may find meeting information and updates (time, place, subject matter or status of meeting) at http://www.nsf.gov/nsb/notices/.

SUPPLEMENTARY INFORMATION: An audio listening line will be available for the public. Members of the public must contact the Board Office to request the number by sending an email to nationalsciencebrd@nsf.gov at least 24 hours prior to the teleconference.

Dated: October 3, 2017.
Ann Bushmiller,
Senior Counsel to the National Science Board.

[FR Doc. 2017-21697 Filed 10-4-17; 11:15 am]

BILLING CODE 7555-01-P